NATIONAL AERONAUTICS AND SPACE ADMINISTRATION

[Notice: (10-082)]

NASA Advisory Council; Science Committee; Earth Science Subcommittee; Meeting

AGENCY: National Aeronautics and Space Administration.

ACTION: Notice of meeting.

SUMMARY: In accordance with the Federal Advisory Committee Act, Public Law 92-463, as amended, the National Aeronautics and Space Administration (NASA) announces a meeting of the Earth Science Subcommittee of the NASA Advisory Council (NAC). This Subcommittee reports to the Science Committee of the NAC. The Meeting will be held for the purpose of soliciting from the scientific community and other persons scientific and technical information relevant to program planning.

DATES: Thursday, August 12, 2010, 1 p.m. to 4 p.m. EDT.

ADDRESSES: This meeting will take place telephonically. Any interested person may contact Ms. Marian Norris to receive a toll free number and pass code needed to participate in this meeting by telephone.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topic:

Earth Science Program's Annual Performance Appraisal and Rating on Fiscal Year 2010 Government Performance and Results Act Metrics.

It is imperative that the meeting be held on this date to accommodate the scheduling priorities of the key participants.

Dated: July 12, 2010.
P. Diane Rausch,
Advisory Committee Management Officer, National Aeronautics and Space Administration.

[FR Doc. 2010-17564 Filed 7-16-10; 8:45 am]

BILLING CODE P